FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
08-SEP-09 | 20090701 | G | Clayton, Dubifler & Rice Fund VIII, L.P.
|  | G | NCI Building Systems, Inc.
|  | G | NCI Building Systems, Inc.
| 20090705 | G | MD Investors Corporation.
|  | G | Metaldyne Corporation.
|  | G | Metaldyne Corporation.
09-SEP-09 | 20090675 | G | AT&T Inc.
|  | G | Paul G. Allen.
|  | G | Vulcan Spectrum LLC.
10-SEP-09 | 20090649 | G | Voting Shares Trust.
|  | G | Metagenics, Inc.
|  | G | Metagenics, Inc.
| 20090651 | G | Meyer Burger Technology Ltd.
|  | G | Diamond Wire Technology, LLC.
|  | G | Diamond Wire Technology, LLC.
| 20090652 | G | Richard M. DeVos.
|  | G | Metagenics, Inc.
|  | G | Metagenics, Inc.
14-SEP-09 | 20090711 | G | Howard D. Schultz.
|  | G | Starbucks Corporation.
|  | G | Starbucks Corporation.
| 20090712 | G | Leonard A. Lauder.
|  | G | The Estee Lauder Companies Inc.
|  | G | The Estee Lauder Companies Inc.
| 20090715 | G | Advent CR Holdings, Inc.
|  | G | Charlotte Russe Holding, Inc.
|  | G | Charlotte Russe Holding, Inc.
| 20090717 | G | Kinder Morgan Energy Partners, L.P.
|  | G | Crosstex Energy, L.P.
|  | G | Crosstex Treating Services, L.P.
| 20090718 | G | Big River Resources, LLC.
|  | G | RBF Acquisition III, LLC.
|  | G | RBF Acquisition III, LLC.
| 20090719 | G | TCV VII, LP.
|  | G | HomeAway, Inc.
|  | G | HomeAway, Inc.
| 20090721 | G | Associated Food Stores, Inc.
|  | G | SUPERVALU INC.
|  | G | New Albertson's, Inc.
| 20090722 | G | Murphy Oil Corporation.
|  | G | RBF Acquisition IV, LLC.
|  | G | RBF Acquisition IV, LLC.
| 20090724 | G | Quanta Services, Inc.
|  | G | Price Gregory Services, Inc.
|  | G | Price Gregory Services, Inc.
| 20090726 | G | Terra Firma Capital Partners Ill, L.P.
|  | G | EverPower Wind Holdings, Inc.
|  | G | EverPower Wind Holdings, Inc.
5-SEP-09 | 20090713 | G | Comvest Investment Partners III, LP.
|  | G | Cynergy Data, LLC.
|  | G | Cynergy Data, LLC.
6-SEP-09 | 20090710 | G | SPO Partners II, L.P.
|  | G | Resolute Energy Corporation.
|  | G | Resolute Energy Corporation.
21-SEP-09 | 20090678 | G | Google Inc.
|  | G | On2 Technologies, Inc.
|  | G | On2 Technologies, Inc.
22-SEP-09 | 20090685 | G | Providence Equity Partners VI International L.P.
|  | G | Ares Corporate Opportunities Fund II, L.P.
|  | G | Stream Global Services, Inc.
| 20090686 | G | Mermac, Inc.
|  | G | Ares Corporate Opportunities Fund II, L.P.
|  | G | Stream Global Services, Inc.
| 20090745 | G | TA X L.P.
|  | G | Wellspring Capital Partners Ill, L.P.
|  | G | Vatterott Education Holding, Inc.
23-SEP-09 | 20090720 | G | Agropur Cooperative.
|  | G | Mr. Martin J. Margherio.
|  | G | Asceptic Newco LLC.
| 20090766 | G | Berkshire Fund VII, L.P.
|  | G | United BioSource Corporation.
|  | G | United BioSource Corporation.
25-SEP-09 | 20090384 | G | K + S Aktiengesellschaft.
|  | G | The Dow Chemical Company.
|  | G | Morton International, Inc.
|  | G | Rohm and Haas Denmark China Salt Holdings ApS.
| 20090412 | G | Dean Foods Company.
|  | G | Jack H. Brown.
|  | G | Santee Dairies, LLC.
| 20090735 | G | Rocket Software, Inc.
|  | G | International Business Machines Corporation.
|  | G | International Business Machines Corporation.
| 20090747 | G | Court Square Capital Partners II, L.P.
|  | G | Rocket Software, Inc.
|  | G | Rocket Software, Inc.
| 20090757 | G | H.I.G. Capital Partners IV, L.P.
|  | G | Stant Parent Corp.
|  | G | Standard-Thomson Corporation.
|  | G | Stant Holding Corp.
|  | G | Thomson International Corporation.
|  | G | Stant Manufacturing, Inc.
|  | G | Stant Corporation.
| 20090770 | G | M. Brooks Smith.
|  | G | Ami Shashoua.
|  | G | QPay, Inc.
| 20090771 | G | M. Brooks Smith.
|  | G | Yossi Amossy.
|  | G | QPay, Inc.
28-SEP-09 | 20090742 | G | Hon Hai Precision Industry Co., Ltd.
|  | G | Sony Corporation.
|  | G | Sony Electronics Inc.
|  | G | Sony Baja California, SA. de C.V.
29-SEP-09 | 20090732 | G | Warner Chilcott plc.
|  | G | The Procter & Gamble Company.
|  | G | Procter & Gamble Pharmaceuticals Longjumeau SAS.
|  | G | Procter & Gamble S.p.A.
|  | G | Procter & Gamble Pharmaceuticals France SAS.
|  | G | Procter & Gamble Pharmaceuticals, Inc.
|  | G | Procter & Gamble Pharmaceuticals Germany GmbH.
|  | G | Procter & Gamble Pharmaceuticals S.a.r.l.
|  | G | Procter & Gamble Pharmaceuticals Iberia S.L.
|  | G | Procter & Gamble Pharmaceuticals UK Limited.
30-SEP-09 | 20090752 | G | LEO Fondet.
|  | G | Peplin, Inc.
|  | G | Peplin, Inc.

FOR FURTHER INFORMATION CONTACT: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. E9-25376 Filed 10-21-09; 8:45 am]

BILLING CODE 6750-01-M